DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of January 1 through January 15, 2010.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W-71,212A; International Automotive Components Group NA, LLC, Rochester Hills, MI June 12, 2008.

TA-W-71,212; International Automotive Components Group NA, LLC, Plymouth, MI June 12, 2008.

TA-W-71,247; International Automotive Components Group North America, Leased Workers from A and R Tech, Account Temps, ACRO Service, Dearborn, MI June 12, 2008.

TA-W-71,604; Rockland Industries, Inc., Baltimore, MD August 8, 2009.

TA-W-71,799B; ElectroCraft Ohio, Inc., Stepper, Winans Sanitary Co, Securitas, Gallipolis, OH July 14, 2008.

TA-W-71,799C; ElectroCraft Ohio, Inc., BLDC, Winans Sanitary Co., Securitas, Gallipolis, OH July 14, 2008.

TA-W-71,881; Ossur America, Inc., Ossur Americas Holdings, Leased Workers from Accountemps, Allso Viejo, CA July 30, 2008.

TA-W-71,908; Kimball Office, Kimball International, Leased Workers from Manpower, Salem, IN July 30, 2008.

TA-W-72,109A; Tyco Electronics Corporation, Global Application Tool Div., Waynesboro, PA August 24, 2008.

TA-W-72,109; Tyco Electronics Corporation,, Global Application Tooling Division, Kelly Services, Mount Sidney, VA August 24, 2008.

TA-W-72,304; TTM Technologies, Inc., Leased Workers from Kelly Services, Inglewood, CA September 14, 2008.

TA-W-72,640; National Spinning Company, Inc., Alamance Spinning, Burlington, NC October 20, 2008.

TA-W-72,708; Elkay California Plumbing Products, Elkau Manufacturing, Leased Workers From Manpower, Staffchex, Sri Technologies, Burbank, CA October 26, 2008.

TA-W-71,614A; EGS Electrical Group, LLC, Pittston, PA July 9, 2008.

TA-W-71,699A; Western Union Financial Services, Inc., Leased Workers from Ikon, Kelly Services, Service Master and Eds, St Charles, MO. July 15, 2008.

TA-W-70,097; Hydro Carbide, Inc., Latrobe, PA May 18, 2008.

TA-W-70,146; Mar/Tron, Inc., Flippin, AR May 18, 2008.

TA-W-70,530; Dauphin Precision Tool, Millersburg, PA May 21, 2008.

TA-W-70,563; Rapid Die and Engineering, Inc., Grand Rapids, MI June 1, 2009.

TA-W-71,010; CWR Manufacturing Corporation, East Syracuse, NY June 4, 2008.

TA-W-71,107; Northfield Foundry and Machine Co., Inc., Northfield, MN.

TA-W-71,799A; ElectroCraft Ohio, Inc., PMDC Servo, Winans Sanitary Co., Securitas, Gallipolis, OH July 14, 2008.

TA-W-71,831; Trail King Industries, Inc., Carlisle Transportation Products Group, Brookville, PA July 24, 2008.

TA-W-71,897; Chicopee, Inc., Polymer Group, Leased Workers from Manpower Staffing, North Little Rock, AR July 31, 2008.

TA-W-72,090; Burly Bear, Inc., dba Proline Billiards, Hickory, NC August 19, 2008.

TA-W-72,120; Vanguard Furniture Company, Leased Workers from Foothills Staffing, Conover, NC August 14, 2008.

TA-W-72,165; Norbord Industries, Inc., Leased Workers from Staffworks Inc., Deposit, NY August 28, 2008.

TA-W-72,280; International Legwear Group, Hildebran, NC September 12, 2009.

TA-W-72,295; Kimball Office-Post Falls, Kimball Int'l, AES, Humanix, Industrial Personnel, Kelly, Post Falls, ID September 14, 2008.

TA-W-72,298A; National Office Furniture-, 11th Ave Plant, Action Temp, Danville, KY September 14, 2008.

TA-W-72,298; National Office Furniture—Jasper 11th Danville, Jasper, IN September 14, 2008.

TA-W-72,308; Camshaft Machine Company, LLC, Jackson, MI September 14, 2008.

TA-W-72,360; CDS Ensembles, Inc., Leased Workers from Labor Finders, Greer, SC September 29, 2009.

TA-W-72,430; Douglas Battery Manufacturing Company, Winston Personnel Group, Aerotek, Debbie's Staff, Winston-Salem, NC September 8, 2008.

TA-W-72,579; Mead Link Products, Inc., Webster, NY October 13, 2008.

TA-W-72,681; Weyerhaeuser NR Company, Wilbur Pole Division, A Subsidiary of Weyerhaeuser Company, Roseburg, OR October 23, 2008.

TA-W-72,696; Reed Manufacturing Company, Inc., Tupelo, MS August 28, 2009.

TA-W-72,718; Briggs & Stratton Power Products Group, LLC, Home Power Division, Leased Workers of Lifestyle Staffing, Adecco, Jefferson, WI October 29, 2008.

TA-W-72,773; Clark Engineering Company, Inc., Leased Workers of Kelly Services, Owosso, MI October 14, 2008.

TA-W-71,525; Results Duffield, Duffield, VA July 2, 2008.

TA-W-72,238; Teleperformance USA (TPUSA, Inc.), Clearfield, UT September 2, 2008.

TA-W-71,300; Five Fortune Sewing, San Francisco, CA June 12, 2008.

TA-W-71,428; Tung Fat Garment Factory, Inc., San Francisco, CA June 12, 2008.

TA-W-71,700; Pendleton Woolen Mills, Inc., Pendleton, OR July 15, 2008.

TA-W-71,998; Hartmarx-Hart, Schaffner and Marx, Des Plaines, IL August 11, 2008.

TA-W-72,013; Anniston Sportswear, Anniston, AL August 11, 2008.

The following certifications have been issued. The requirements of Section 222(a)(2)(B) (shift in production or services) of the Trade Act have been met.

TA-W-71,045; Bayer Material Science, LLC, On-Site Temporary Workers from Randstadt, Berlin, CT June 5, 2008.

TA-W-71,216; Midland Forge, Columbus McKinnon Corporation, Cedar Rapids, IA June 11, 2008.

TA-W-71,316; Nypro Oregon, Inc., Healthcare Global Business Unit, Leased Workers of Express Personnel Services, Corvallis, OR June 16, 2008.

TA-W-71,510; Kurz-Kasch, Inc., Newcomerstown, OH June 30, 2008.

TA-W-71,614; Emerson, Inc., EGS Electrical Group, O-Z Gedney Co, Shoemakersville, PA July 9, 2008.

TA-W-71,799; ElectroCraft Ohio, Inc., PMDC Mobility, Winans Sanitary Co, Securitas, Gallipolis, OH July 14, 2008.

TA-W-71,821; American Keeper Corporation, Keeper Company Ltd/Leased Workers from Alpha Placement Services, New Castle, IN July 24, 2008.

TA-W-71,985; Eaton Corporation, Commercial Distribution and Control Assemblies Division (CDCA), Sumter, SC August 4, 2008.

TA-W-72,128; Samsung Austin Semiconductor, LLC, DRAM Fab 1/Samsung Electronics Corporation, Austin, TX August 26, 2008.

TA-W-72,168; Dimensions, Inc., Wilton Paper and Specialty Craft Organization/Div. of Wilton Brands, In Reading, PA August 21, 2008.

TA-W-72,193; Coherent, Inc, Scientific Laser Div., Diode Pumped Group, Santa Clara, CA September 1, 2008.

TA-W-72,257; Rockwell Automation, (Depts. 411 and 445), Leased Workers of Manpower, Aerotek, Adecco, Mequon, WI September 9, 2008.

TA-W-72,435; TTM Technologies, Leased Workers from Kelly Services, and Coast Personnel Services, Union City, CA September 28, 2008.

TA-W-72,464; The Dow Chemical Company, Allyn's Point Site Division, Gales Ferry, CT September 29, 2008.

TA-W-72,505; Silcon Forest Industries, Inc., Working at Shin-Etsu Chem/Kelly Temporary Service, Volt, Vancouver, WA October 1, 2008.

TA-W-72,547; Arnold Gauge, Fairfield, OH October 6, 2008.

TA-W-72,638; AVX Corporation, Kyocera Group Company/Leased Workers IHT, Kelly Services, Myrtle Beach, SC September 30, 2008.

TA-W-72,691; Moog Aircraft Group—Salt Lake Operations, Salt Lake City, UT October 20, 2008.

TA-W-72,713; Jones Lang LaSalle, Corporate Solutions Div., Working at Honeywell, Phoenix, AZ October 29, 2008.

TA-W-72,736; General Motors Powertrain, GMPT Powertrain Tonawanda Division, Buffalo, NY October 28, 2008.

TA-W-72,767; Hologic, Inc., Redwood City, CA October 28, 2008.

TA-W-72,778; Kenco Logistic Services, LLC, Electrolux Webster City/Leased Workers from Spherion Staffing Services, Webster City, IA November 5, 2008.

TA-W-72,779; Kenco Logistic Services, LLC, Electrolux Ames/Leased Workers from Manpower, Ames, IA November 5, 2008.

TA-W-72,860; Metavation LLC, Traverse City, Michigan Division, Revstone, LLC, Traverse City, MI November 16, 2008.

TA-W-72,909; The Glass Baron, Virginia Beach, VA November 19, 2008.

TA-W-73,013; Pentron Clinical Technologies, Kerr Dental/Sybron Dental, Leased Workers Reitman Personnel and A.R. Mazzotta, Wallingford, CT December 2, 2008.

TA-W-72,028; Rupert Dental Lab, Inc., Crown and Bridge Division, Oklahoma City, OK August 4, 2008.

TA-W-72,143; Parker Hannifin Corporation, Hydraulic Cartridge Systems Division/Leased Workers from Aerotek, Chanhassen, MN August 26, 2008.

TA-W-72,180; Philips Ultrasound, Inc., A Philips Healthcare Company, Adecco Employment, Reedsville, PA September 1, 2008.

TA-W-72,659; DTR Industries, Inc., Hose Division/Leased Workers from Spherion of Lima, Inc. and CDW, Bluffton, OH October 22, 2008.

TA-W-70,883A; Agilent Technologies, EMG Order Fulfillment, Santa Rosa, CA June 2, 2008.

TA-W-70,883B; Agilent Technologies, EMG Order Fulfillment, Liberty Lake, WA June 2, 2008.

TA-W-70,883C; Agilent Technologies, Honolulu, HI June 2, 2008.

TA-W-70,883; Agilent Technologies, EMG Order Fulfillment, Colorado Springs, CO June 2, 2008.

TA-W-70,921; Golden State Box Factory, San Diego, CA June 1, 2008.

TA-W-70,947; Chrysler LLC, National Customer Service Center and Service Contracts Division, Rochester Hills, MI May 27, 2008.

TA-W-71,529; Sara Lee Corporation, Master Data, Cash Applications etc., Leased Workers from Adecco, Crossfire etc., Earth City, MO July 1, 2008.

TA-W-71,850; Bank of America Corporation, Consumer Small Business Baking Tech, Transaction Services Division, Utica, NY July 27, 2008.

TA-W-72,070; American Express Travel Related Services Company, Finance Division, Phoenix, AZ June 23, 2008.

TA-W-72,087; Cross Country Staffing, Cross Country Healthcare, Inc., Boca Raton, FL August 18, 2008.

TA-W-72,251A; Supervalu, Inc., IT and Finance Dept, Salt Lake, UT September 2, 2008.

TA-W-72,251B; Supervalu, Inc., IT and Finance Dept, Franklin Park, IL September 2, 2008.

TA-W-72,251C; Supervalu, Inc., IT and Finance Dept, Milford, OH September 2, 2008.

TA-W-72,251D; Supervalu, Inc., IT and Finance Dept, Dublin, CA September 2, 2008.

TA-W-72,251E; Supervalu, Inc., IT and Finance Dept, Virginia Beach, VA September 2, 2008.

TA-W-72,251F; Supervalu, Inc., IT and Finance Dept, Global Resources, Professional Employment, Phoenix, AZ September 2, 2008.

TA-W-72,251G; Supervalu, Inc., IT and Finance Dept, Malvern, PA September 2, 2008.

TA-W-72,251H; Supervalu, Inc., IT and Finance Dept, Portland, OR September 2, 2008.

TA-W-72,251I; Supervalu, Inc., IT and Finance Dept, Aurora, CO September 2, 2008.

TA-W-72,251J; Supervalu, Inc., IT and Finance Dept, Lanham, MD September 2, 2008.

TA-W-72,251K; Supervalu, Inc., IT and Finance Dept, Las Vegas, NV September 2, 2008.

TA-W-72,251L; Supervalu, Inc., IT and Finance Dept, Spokane, WA September 2, 2008.

TA-W-72,251M; Supervalu, Inc., IT and Finance Dept, Fort Wayne, IN September 2, 2008.

TA-W-72,251N; Supervalu, Inc., IT and Finance Dept, West Bridgewater, MA September 2, 2008.

TA-W-72,251; Supervalu, Inc., IT and Finance Dept, Volt Service Group, Boise, ID September 2, 2008.

TA-W-72,338; Analogix Semiconductor, Inc., Operations Department, Santa Clara, CA September 14, 2008.

TA-W-72,340; Nortel Networks, Adaptive Application Engine Department, Richardson, TX September 17, 2008.

TA-W-72,485; Convergys, Customer Management Division, Appleton, WI October 1, 2008.

TA-W-72,496; Experian, Global Technology Services, Experian, Leased Workers from Tapfin, Schaumburg, IL October 5, 2008.

TA-W-72,635; ABB, Inc., Process Automation Research and Development Group, Leased Workers from Beeline, Wickliffe, OH October 20, 2008.

TA-W-72,884A; Warner Music, Inc., IT Infrastructure, Leased Workers from Spherion, Infosys & Turner Techtronics, New York, NY November 16, 2008.

TA-W-72,884B; Warner Music, Inc., IT Infrastructure, Leased Workers from Spherion, Infosys & Turner Techtronics, Nashville, TN November 16, 2008.

TA-W-72,884C; Warner Music, Inc., IT Infrastructure, Leased Workers from Spherion, Infosys & Turner Techtronics, Burbank, CA November 16, 2008.

TA-W-72,884D; Warner Music, Inc., IT Infrastructure, Leased Workers from Spherion, Infosys & Turner Techtronics, Burbank, CA November 16, 2008.

TA-W-72,884; Warner Music, Inc., IT Infrastructure, Leased Workers from Spherion, Infosys & Turner Techtronics, Burbank, CA November 16, 2008.

TA-W-73,003; IBM, Global Business Services Div., Software Service, Austin, TX November 24, 2008.

TA-W-71,699; Western Union Financial Services, Inc., Bridgeton, MO July 15, 2008.

TA-W-71,745A; ServiceMaster, Leased Workers from Abielle Information Tech Consultants, Memphis, TN July 17, 2008.

TA-W-71,745; ServiceMaster, Leased Workers from Abielle Information Tech Consultants, Memphis, TN July 17, 2008.

TA-W-72,139; Electronic Data Systems (EDS), Hewlett-Packard Company/Leased Workers of Auburn Hills Suppliers, Auburn Hills, MI August 26, 2008.

TA-W-72,429; Archway, Archway Marketing Services/Working on-site at Microsoft, Fargo, ND September 21, 2008.

TA-W-72,658; Hartford Financial Services Group, Inc., Charlotte Service Center/Leased Workers from Beeline, Charlotte, NC October 22, 2008.

The following certifications have been issued. The requirements of Section 222(b) (adversely affected workers in public agencies) of the Trade Act have been met.

None.

The following certifications have been issued. The requirements of Section 222(c) (supplier to a firm whose workers are certified eligible to apply for TAA) of the Trade Act have been met.

TA-W-71,955; Felsted Products, LLC, Holmesville, OH August 7, 2008.

TA-W-70,348; Clover Yarns, Inc., Clover, VA May 19, 2008.

TA-W-71,286; Frame Builders, Inc., Thomasville, NC June 10, 2008.

TA-W-71,293; Worthington Steel Co. of Kentucky, LLC, Louisville, KY May 18, 2008.

TA-W-71,345; Mollertech, LLC, Moller Group North American, Leased Workers from American Labor Solutions, Shelby Township, MI June 22, 2008.

TA-W-71,661; Apollo Chemical, LLC, Ware Shoals, SC July 13, 2008.

TA-W-71,922; Maclean Flowform, LLC, Toledo, OH August 4, 2008.

TA-W-72,198; Paulstra CRC, Grand Rapids, MI September 1, 2008.

TA-W-72,224; Akzo Nobel Coatings, Inc., Akzo Nebel N.V., Leased Workers Adecco, Randstad, High Point, NC August 14, 2008.

TA-W-72,397; Timken Company, Bucyrus Bearing Plant, Leased Workers of Adecco, Bucyrus, OH September 23, 2008.

TA-W-72,407; Foam Rubber, LLC, Monticello, IA August 31, 2008.

TA-W-72,452; Bassett Mirror Company, Inc., Glass Products Division, Bassett, VA September 29, 2008.

TA-W-72,495; Allegheny Ludlum Corporation, Allegheny Technologies, Inc., New Castle, IN October 2, 2008.

TA-W-72,672; Concord Steel, Inc., Aerotek Staffing and Acountemps, Warren, OH October 14, 2008.

TA-W-72,805; ThyssenKrupp Waupaca, Inc., Plant 6, Randstad USA, Etowah, TN November 5, 2008.

TA-W-71,190; JIT Services, LLC, Chase Staffing Services, Randstad, Automation, Peachtree City, GA June 10, 2008.

TA-W-72,613; Bruckner Supply, Inc., SPG Staff, Working on-site at Dana Holding, Glasgow, KY October 16, 2008.

The following certifications have been issued. The requirements of Section 222(c) (downstream producer for a firm whose workers are certified eligible to apply for TAA) of the Trade Act have been met.

TA-W-71,751; Stanley Furniture Company, Inc., Leased Workers from Stewart Staffing, Lexington, NC July 17, 2008.

TA-W-72,236; Pleasant Trucking, Inc., Mount Pleasant, PA September 8, 2008.

TA-W-72,625; Superior Sewing, Inc., Salem, AR October 16, 2008.

TA-W-72,991; Vascor, Ltd., Division of APL Logistics/Leased Workers From CTS Advantage Logistics, Fremont, CA December 1, 2008.

The following certifications have been issued. The requirements of Section 222(f) (firms identified by the International Trade Commission) of the Trade Act have been met.

None.

Negative Determinations for Worker Adjustment Assistance

In the following cases, the investigation revealed that the eligibility criteria for worker adjustment assistance have not been met for the reasons specified.

The investigation revealed that the criterion under paragraph (a)(1), or (b)(1), or (c)(1)(employment decline or threat of separation) of section 222 has not been met.

TA-W-72,267; United Healthcare, Inc., Optum Health Division. United Health Group, San Diego, CA.

TA-W-72,376; Albany International Corporation, Engineered Fabrics Division, Kaukauna, WI.

The investigation revealed that the criteria under paragraphs (a)(2)(A)(i) (decline in sales or production, or both) and (a)(2)(B) (shift in production or services to a foreign country) of section 222 have not been met.

TA-W-70,866; Davis-Standard, LLC, Black Clawson Division, Aerotek and Adecco, Fulton, NY.

TA-W-72,616; Occupational Healthlab, Inc., Silver City, NM.

The investigation revealed that the criteria under paragraphs (a)(2)(A) (increased imports) and (a)(2)(B) (shift in production or services to a foreign country) of section 222 have not been met.

TA-W-70,145; Sunbury Textile Mills, Inc., Sunbury, PA.

TA-W-70,442; Pfizer Global Manufacturing, Pfizer, Inc., Terre Haute, IN.

TA-W-70,537; Ingersol Rand, Productivity Solutions Division, Southern Pine, NC.

TA-W-70,757; A.L.P. Lighting and Ceiling Products, Inc., Leased Workers from PMP Personnel Services, Charlevoix, MI.

TA-W-70,973; Manitowoc Tool and Machining, LLC, Leased Workers From Engstrom, Inc., Manitowoc, WI.

TA-W-71,338; Extang Corporation, Sandusky, MI.

TA-W-71,352; Tooling Science, Maple Grove, MN.

TA-W-71,508; Swiss Plywood Corporation, Tell City, IN.

TA-W-71,553; Kersey Tool and Die Company, Kersey, PA.

TA-W-71,613; Cherne Industries, Inc., Oately Company, Leased Workers of RWJ, Edina, MN.

TA-W-71,904; Lu Mac, Inc., Ford City, PA.

TA-W-71,950; Sierra Pacific Industries, Camino Division, Camino, CA.

TA-W-72,014; Seats, Inc., Nordic Group of Companies, Richland Center, WI.

TA-W-72,164; L&W Murfreesboro, LLC, Murfreesboro, TN.

TA-W-72,330; Hughes Hardwood, Inc., Sawmill Div., Amenity Staffing, Collinwood, TN.

TA-W-72,355; Flanders Tool Company, Inc., Flanders, NJ.

TA-W-72,455; Erath Veneer Corporation of Virginia, Rocky Mount, VA.

TA-W-72,510; Jeld-Wen Millwork Distribution, Wilkesboro, NC.

TA-W-72,587; Raleigh Film and Television Studios, LLC, Los Angeles, CA.

TA-W-72,676; Christensen Shipyards, LTD., Vancouver, WA.

TA-W-72,754; Speck Buildings, LLC, Meridian, ID.

TA-W-72,792; Big River Box, Inc., Keokuk, IA.

TA-W-72,835; Maax US Corporation, Southampton, PA.

TA-W-70,128; AmerCable, Inc., El Dorado, AR.

TA-W-70,364; Seco Tools, Inc., Warren, MI.

TA-W-70,583; J.W. Peters, Inc., Burlington, WI.

TA-W-70,629; MISA Metal Processing of Tennessee, Portland, TN.

TA-W-70,706; GEHL Company, Corporate Office and R&D Center, West Bend, WI.

TA-W-70,843; Abbot Building Restoration Company, Inc., Boston, MA.

TA-W-71,280; International Business Machines Corporation (IBM), Global Business Services Business Unit/Application Services Division, Beaverton, OR.

TA-W-71,297; TNS Custom Research, Inc., TNS North America, Inc., Indiana, PA.

TA-W-71,388; Lucas Smith Automotive, Inc., Potosi, MO.

TA-W-71,474; The Uttermost Company, Rocky Mount, VA.

TA-W-71,540; Philips Products, Inc., Stayton, OR.

TA-W-71,603; Roush Industries, Inc., Roush Technical Services (RTS) Department, Allen Park, MI.

TA-W-71,646A; Blue Sky Oilfield Services, LLC, Washington, PA.

TA-W-71,646; Blue Sky Oilfield Services, LLC, Grandbury, TX.

TA-W-71,827; Century Dodge, Inc., Taylor, MI.

TA-W-71,933; TRW Vehicle Safety Systems, Inc., Washington, MI.

TA-W-72,316; DHL Express (USA), Inc., DPWN Holdings, Inc., St. Louis, MO.

TA-W-72,471; The Walker Auto Group, Inc., Miamisburg, OH.

TA-W-72,601; Crowe Manufacturing Services, Inc., Dayton, OH.

TA-W-72,915; Lariat Services, Ft. Stockton, TX.

The investigation revealed that the criteria under paragraphs (b)(2) and (b)(3) (public agency acquisition of services from a foreign country) of section 222 have not been met.

TA-W-71,939; City of Mansfield, Division of Fire, Mansfield, OH.

The investigation revealed that criteria of Section 222(c)(2) has not been met. The workers' firm (or subdivision) is not a Supplier to or a Downstream Producer for a firm whose workers were certified as eligible to apply for TAA.

None.

I hereby certify that the aforementioned determinations were issued during the period of January 1 through January 15, 2010. Copies of these determinations are available for inspection in Room N-5428, U.S. Department of Labor, 200 Constitution Avenue, NW., Washington, DC 20210 during normal business hours or will be mailed to persons who write to the above address.

Dated: February 2, 2010.
Richard Church,
Certifying Officer, Division, of Trade Adjustment Assistance

[FR Doc. 2010-3009 Filed 2-12-10; 8:45 am]

BILLING CODE 4510-FN-P